DEPARTMENT OF ENERGY

Federal Energy Regulatory Commission

[Docket Nos. CP04-395-000 and CP04-405-000]

Vista del Sol LNG Terminal LP, Vista del Sol Pipeline LP; Notice of Availability of the Final Environmental Impact Statement for the Proposed Vista del Sol LNG Terminal Project

April 15, 2005.

The staff of the Federal Energy Regulatory Commission (FERC or Commission) has prepared a final Environmental Impact Statement (EIS) for the construction and operation of a liquefied natural gas (LNG) import terminal and natural gas pipeline facilities proposed by Vista del Sol LNG Terminal LP and Vista del Sol Pipeline LP (collectively referred to as Vista del Sol) in the above-referenced dockets.

The final EIS was prepared to satisfy the requirements of the National Environmental Policy Act (NEPA). The staff concludes that approval of the proposed project with appropriate mitigating measures as recommended, would have limited adverse environmental impact. The final EIS also evaluates alternatives to the proposal, including system alternatives, alternative sites for the LNG import terminal, and pipeline alternatives.

Vista del Sol's proposed facilities would transport up to 1.4 billion cubic feet per day (Bcfd) of imported natural gas to the United States market. In order to provide LNG import, storage, and pipeline transportation services, Vista del Sol requests Commission authorization to construct, install, and operate an LNG terminal and natural gas pipeline facilities.

The final EIS addresses the potential environmental effects of the construction and operation of the following LNG terminal and natural gas pipeline facilities:

• A ship unloading facility with berthing capabilities for one LNG ship with cargo capacities of up to 250,000 cubic meters (m³);

• Three 155,000 m³ full containment LNG storage tanks;

• Vaporization equipment capable of an average sendout capacity of 1.1 Bcfd and a maximum sendout capacity of 1.4 Bcfd;

• Ancillary utilities, buildings, and service facilities;

• One 25.3 mile-long, 36-inch-diameter natural gas sendout pipeline; and

• Associated pipeline support facilities, including six meter stations at interconnects with nine existing pipeline systems, one pig launcher, and one pig receiver.

The final EIS has been placed in the public files of the FERC and is available for distribution and public inspection at: Federal Energy Regulatory Commission, Public Reference Room, 888 First Street, NE., Room 2A, Washington, DC 20426. (202) 502-8371.

A limited number of copies are available from the Public Reference Room identified above. In addition, copies of the final EIS have been mailed to Federal, State, and local agencies; public interest groups; individuals and affected landowners who requested a copy of the final EIS; libraries; newspapers; and parties to this proceeding.

In accordance with the Council on Environmental Quality's (CEQ) regulations implementing NEPA, no agency decision on a proposed action may be made until 30 days after the U.S. Environmental Protection Agency (EPA) publishes a notice of availability of a final EIS. However, the CEQ regulations provide an exception to this rule when an agency decision is subject to a formal internal process that allows other agencies or the public to make their views known. In such cases, the agency decision may be made at the same time the notice of the final EIS is published, allowing both periods to run concurrently. Should the FERC issue Vista del Sol authorizations for the proposed project, it would be subject to a 30-day rehearing period. Therefore, the Commission could issue its decision concurrently with the EPA's notice of availability.

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact FERC Online Support at FERCOnlineSupport@ferc.gov or toll free at 1-866-208-3676, or for TTY, contact (202) 502-8659. The eLibrary link on the FERC Internet Web site also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to the eSubscription link on the FERC Internet Web site.

Magalie R. Salas,
Secretary.

[FR Doc. E5-1896 Filed 4-21-05; 8:45 am]

BILLING CODE 6717-01-P